DEPARTMENT OF COMMERCE

International Trade Administration

[A-520-807]

Circular Welded Carbon-Quality Steel Pipe From the United Arab Emirates: Notice of Court Decision Not in Harmony With Final Determination of Sales at Less Than Fair Value

AGENCY: Enforcement and Compliance, International Trade Administration, Department of Commerce.

SUMMARY: On July 9, 2018, the United States Court of International Trade (the Court) entered final judgment sustaining the final results of the remand redetermination by the Department of Commerce (Commerce) pertaining to the antidumping duty (AD) investigation of circular welded carbon-quality steel pipe (CWP) from the United Arab Emirates (UAE). Commerce is notifying the public that the final judgment in this case is not in harmony with Commerce's final determination in the AD investigation of CWP from the UAE.

DATES: Applicable July 19, 2018.

FOR FURTHER INFORMATION CONTACT: Blaine Wiltse and Whitley Herndon, AD/CVD Operations, Office II, Enforcement and Compliance, International Trade Administration, U.S. Department of Commerce, 1401 Constitution Avenue NW, Washington, DC 20230; telephone: (202) 482-6345 and (202) 482-6274, respectively.

SUPPLEMENTARY INFORMATION:

Background

Subsequent to the October 28, 2016, publication of the Final Determination,¹ and the December 16, 2016, publication of the Order,² Wheatland Tube Company (i.e., the petitioner), filed a complaint with the Court challenging Commerce's treatment of the cost of “caps” used by Universal Tube and Plastic Industries, LLC—Jebel Ali Branch (UTP-JA), a producer/exporter of the mandatory respondent, Universal.³ On April 24, 2018, the Court remanded Commerce's final determination with the instruction that Commerce reexamine whether UTP-JA's cost of caps should be treated as packing expenses in light of its prior treatment of this material.⁴

¹ See Circular Welded Carbon-Quality Steel Pipe from the United Arab Emirates: Final Determination of Sales at Less Than Fair Value, 81 FR 75030 (October 28, 2016) (Final Determination).

² See Circular Welded Carbon-Quality Steel Pipe from the Sultanate of Oman, Pakistan, and the United Arab Emirates: Amended Final Affirmative Antidumping Duty Determination and Antidumping Duty Orders, 81 FR 91906 (December 19, 2016) (Order).

³ Universal is the name collectively used for the following group of affiliated producers/exporters of CWP: KHK Scaffolding and Framework LLC; Universal Tube and Pipe Industries, Ltd; and UTP-JA.

⁴ See Wheatland Tube Company v. United States, Court No. 17-00021, Slip Op. 18-49 (CIT April 24, 2018).

On June 22, 2018, Commerce issued its final results of redetermination, in which we reclassified UTP-JA's cost of caps as packing expenses; this revision did not change the final dumping margin for Universal.⁵ On July 9, 2018, the Court sustained the Remand Redetermination.

⁵ See Final Results of Redetermination Pursuant to Court Remand, Wheatland Tube Company v. United States, Court No. 17-00021, Slip Op. 18-49 (CIT April 24, 2018), dated June 21, 2018, available at: https://enforcement.trade.gov/remands/index.html (Remand Redetermination).

Timken Notice

In its decision in Timken,⁶ as clarified by Diamond Sawblades,⁷ the United States Court of Appeals for the Federal Circuit held that, pursuant to section 516A(e) of the Tariff Act of 1930, as amended (the Act), Commerce must publish a notice of a court decision that is not “in harmony” with a Commerce determination and must suspend liquidation of entries pending a “conclusive” court decision. The Court's July 9, 2018, final judgment sustaining Commerce's Remand Redetermination constitutes a final decision of the Court that is not in harmony with Commerce's Final Determination. This notice is published in fulfillment of the publication requirements of Timken. Accordingly, Commerce will continue the suspension of liquidation of the subject merchandise pending the expiration of the period of appeal, or if appealed, pending a final and conclusive court decision.

⁶ See Timken Co. v. United States, 893 F.2d 337, 341 (Fed. Cir. 1990) (Timken).

⁷ See Diamond Sawblades Mfrs. Coalition v. United States, 626 F.3d 1374 (Fed. Cir. 2010) (Diamond Sawblades).

We have not amended the Final Determination because reclassifying UTP-JA's cost of caps as packing expenses did not result in a change to the weighted-average dumping margin calculated for Universal in the Final Determination, which remains 5.58 percent.

Notification to Interested Parties

This notice is issued and published in accordance with sections 516A(c)(1) and (e), and 777(i)(1) of the Act.

Dated: July 13, 2018.
Gary Taverman,
Deputy Assistant Secretary for Antidumping and Countervailing Duty Operations, performing the non-exclusive functions and duties of the Assistant Secretary for Enforcement and Compliance.

[FR Doc. 2018-15566 Filed 7-18-18; 8:45 am]

BILLING CODE 3510-DS-P